DEPARTMENT OF COMMERCE

National Oceanic and Atmospheric Administration

50 CFR Part 648

[I.D. 070703A]

Fisheries of the Northeastern United States; Atlantic Mackerel, Squid, and Butterfish Fishery

AGENCY: National Marine Fisheries Service (NMFS), National Oceanic and Atmospheric Administration (NOAA), Commerce.

ACTION: Notice of intent (NOI) to prepare an environmental impact statement (EIS); request for comments.

SUMMARY: The Mid-Atlantic Fishery Management Council (Council) announces its intention to prepare, in cooperation with NMFS, an EIS in accordance with the National Environmental Policy Act to assess potential effects on the human environment of alternative measures for managing the Atlantic mackerel, squid, and butterfish fisheries pursuant to the Magnuson-Stevens Fishery Conservation and Management Act. The Council intends to develop Framework 4 to the Atlantic Mackerel, Squid and Butterfish Fishery Management Plan (FMP) to address the issue of expiration of the moratorium on entry to the commercial Illex squid fishery. This notification announces a public process for determining the impact on the human environment of measures proposed in Framework 4 relating to possible extension or expiration of the Illex moratorium. The intended effect of this notification is to alert the interested public of the development of the Draft EIS (DEIS) for this framework action and to provide for public participation.

DATES: Written comments on the intent to prepare an EIS must be received no later than 5 p.m., local time, on August 18, 2003.

ADDRESSES: Written comments on the intent to prepare the EIS and requests for other information related to the development of Framework 4 should be directed to Mr. Daniel T. Furlong, Mid-Atlantic Fishery Management Council, Room 2115 Federal Building, 300 S. New St., Dover, DE 19904. Comments may also be sent via facsimile (FAX) to (302) 674-5399. Comments will not be accepted if submitted by e-mail or Internet.

FOR FURTHER INFORMATION CONTACT: Daniel T. Furlong, Executive Director, 302-674-2331.

SUPPLEMENTARY INFORMATION: Prior to the 1980s, the fishery for Illex illecebrosus, (short finned squid) in the U.S. Exclusive Economic Zone (EEZ) was prosecuted primarily by foreign distant water fleets. With the implementation of the Atlantic Mackerel, Squid, and Butterfish FMP in 1982 and its subsequent amendments, the fishery became increasingly utilized by the domestic fishery. While the domestic fishery was undergoing development, new biological data became available which indicated that Illex is an annual species that resulted in smaller (or lower) revised estimates of the sustainable yield for the species.

In the 1990s, the simultaneous growth of the domestic squid fisheries and reduction in the estimate of sustainable yield resulted in the Illex fishery moving toward full capitalization and exploitation. As a result, a limited entry program became necessary and was implemented by a final rule for Amendment 5 to the FMP (62 FR 28638, May 27, 1997). However, due to concerns that capacity might be insufficient to fully exploit the annual quota for this fishery, a 5-year sunset provision was placed on the Illex moratorium when it was implemented in Amendment 5. Due to this sunset provision, the moratorium on entry to the Illex fishery was set to expire in July 2002, but was extended for one year by a final rule that implemented Framework 2 to the FMP (67 FR 44392, July 2, 2002). An additional one-year extension of the moratorium was implemented by a final rule that implemented Framework 3 (68 FR 31988, May 29, 2003). The Council is currently developing a DEIS through the development of Amendment 9 to the FMP. In addition to the limited access issue in the Illex fishery, the Council is also addressing a number of complex issues in Amendment 9 including those related to gear impacts on essential fish habitat, bycatch reduction, permitting of the Northwest Atlantic Fisheries Organization vessels to transit the U.S. EEZ, and the definition of overfishing for Loligo squid. The original NOI to develop a DEIS for Amendment 9 was published on November 29, 2001, (66 FR 56574) and the Council held the initial scoping meeting on December 12, 2001, in Atlantic City, NJ. The Council continued the development of Amendment 9 in 2002-2003 and submitted the DEIS for NMFS approval for public hearings in April 2003. NMFS identified a number of deficiencies in the DEIS for Amendment 9 at the March 19, 2003, Council meeting held in New York City, NY. As a result of those deficiencies, the Council was unable to adopt the DEIS for Amendment 9. At its June 25, 2003, meeting in Philadelphia, PA, the Council concluded that delays in development of the DEIS for Amendment 9 could result in a hiatus in the Illex limited access program if the moratorium for the Illex fishery expired before the final rule for Amendment 9 is implemented. Therefore, the Council decided to develop Framework 4, the sole purpose of which is to extend the moratorium on entry to the Illex fishery while the Council addresses this issue in Amendment 9 to the FMP. The Council concluded that new public scoping meetings are not necessary for this DEIS because this issue was considered during the original December 12, 2001, scoping meeting based on the original NOI. Applicable comments from that meeting will be considered along with the written comments received on this notification in the preparation of the DEIS for Framework 4.

The Council is considering the following alternatives for this framework action: (1) Extend the moratorium on entry to the Illex fishery for an additional 5 years (preferred alternative), (2) extend the moratorium on entry to the Illex fishery for an additional 2 years, (3) no action, and (4) extend the moratorium on entry to the Illex fishery without a sunset provision.

Authority: 16 U.S.C. 1801 et seq.

Dated: July 14, 2003.
John H. Dunnigan,
Director, Office of Sustainable Fisheries, National Marine Fisheries Service.

[FR Doc. 03-18343 Filed 7-17-03; 8:45 am]

BILLING CODE 3510-22-S